DEPARTMENT OF TRANSPORTATION

Federal Aviation Administration

Notice of Intent to Rule on Application 01-01-C-00-SHD To Impose and Use the Revenue From a Passenger Facility Charge (PFC) at Shenandoah Valley Regional Airport, Staunton, VA

AGENCY: Federal Aviation Administration (FAA), DOT.

ACTION: Notice of intent to rule on application.

SUMMARY: The FAA proposes to rule and invites public comment on the application to impose and use the revenue from a PFC at Shenandoah Valley Regional Airport under the provisions of the Aviation Safety and Capacity Expansion Act of 1990 (Title IX of the Omnibus Budget Reconciliation Act of 1990) (Public Law 101-508) and Part 158 of the Federal Aviation Regulations (14 CFR Part 158).

DATES: Comments must be received on or before October 1, 2001.

ADDRESSES: Comments on this application may be mailed or delivered in triplicate to the FAA at the following address: Airports Division, AEA-610, 1 Aviation Plaza, Jamaica, New York 11434-4809.

In addition, one copy of any comments submitted to the FAA must be mailed or delivered to Gregory Campbell, Airport Manager at the following address: Shenandoah Valley Regional Airport, Post Office Box 125, Weyers Cave, VA 24486-0125.

Air carriers and foreign air carriers may submit copies of written comments previously provided to the Shenandoah Valley Regional Airport Commission under section 158.23 of Part 158.

FOR FURTHER INFORMATION CONTACT: Eleanor Schifflin, PFC Program Manager, Regional Office, 1 Aviation Plaza, Jamaica, New York, (718) 553-3354. The application may be reviewed in person at this same location.

SUPPLEMENTARY INFORMATION: The FAA proposes to rule and invites public comment on the application to impose and use the revenue from a PFC at Shenandoah Valley Regional Airport under the provisions of the Aviation Safety and Capacity Expansion Act of 1990 (Title IX of the Omnibus Budget Reconciliation Act of 1990) (Public law 101-508) and part 158 of the Federal Aviation Regulations (14 CFR part 158).

On August 14, 2001, the FAA determined that the application to impose and use the revenue from a PFC submitted by Shenandoah Valley Regional Airport Commission was substantially complete within the requirements of section 158.23 of Part 158. The FAA will approve or disapprove the application, in whole or in part, no later than November 13, 2001.

The following is a brief overview of the application.

PFC Application No.: 01-01-C-00-SHD.

Level of the proposed PFC: $3.00.

Proposed charge effective date: January 1, 2002.

Proposed charge expiration date: January 1, 2006.

Total estimated PFC revenue: $207,875.

Brief description of proposed project(s):

—Develop PFC Program/Application

—Install MITLs, Airfield Guidance Signs, PAPI

—Design and Construct Apron Expansion

—Design and Rehabilitate General Aviation Apron

—Design and Construct Runway Safety Area—R/W 5

—Acquisition of Snow Removal and Friction Testing Equipment

—Update Airport Layout Plan

—Install Stand-By Emergency Generator

Class or classes of air carriers which the public agency has requested not be required to collect PFCs: Unscheduled Part 135 Air Taxi/Commercial operators and Unscheduled Part 121 Charter operators both classes for hire to the general public.

Any person may inspect the application in person at the FAA office listed above under FOR FURTHER INFORMATION CONTACT and at the FAA regional airports office located at: 1 Aviation Plaza, Airports Division, AEA-610, Jamaica, New York, 11434-4809.

In addition, any person may, upon request, inspect the application, notice and other documents germane to the application in person at the Shenandoah Valley Regional Airport Commission.

Issued in Jamaica, New York on August 24, 2001.
Thomas Felix,
Manager, Planning & Programming, Airports Division, Eastern Region.

[FR Doc. 01-22042 Filed 8-30-01; 8:45 am]

BILLING CODE 4910-13-M